DEPARTMENT OF THE INTERIOR

Bureau of Land Management

[CA-610-09-0777-42]

Amendment to the Meeting of the California Desert District Advisory Council

SUMMARY: Notice is hereby given, in accordance with Public Laws 92-463 and 94-579, that the California Desert District Advisory Council to the Bureau of Land Management, U.S. Department of the Interior, will participate in a field tour of the BLM-administered public lands within the West Mojave Management Planning area on Friday, June 9, 2000, from 7:30 a.m to 4 p.m., and meet in formal session on Saturday, June 10, from 8 a.m. to 5 p.m. The Saturday meeting will be held at the Kerr-McGee Center, located at 100 West California Avenue, Ridgecrest, California. To reach the Center, turn west onto California from China Lake Boulevard and follow the road to the Center.

The Council and interested members of the public will assemble for the field tour at the Best Western China Lake Inn parking lot at 7:15 a.m. and depart at 7:30 a.m. Tour stops will include the Desert Tortoise Natural Area, the Rand Mountains, and the Jawbone Canyon Off-Highway Vehicle Recreation Area. Members of the public are welcome to participate in the tour, but should plan on providing their own transportation, drinks, and lunch.

The Council will meet in formal session on Saturday. Discussions will focus on issues being addressed in the West Mojave Coordinated Management Plan. Council members also will hear a presentation and accept public comment on the development of BLM's National Off-Highway Vehicle Management Strategy. The presentation is scheduled to begin at 10:15 a.m.

The national strategy will be developed with substantial input from off-highway vehicle (OHV) user groups, environmental organizations, State and local agencies, and the general public. The strategy will address land-management issues prompted by the growing popularity of OHV recreation. The strategy will recognize the interests of OHV users while protecting environmental sensitive areas on BLM-managed public lands.

BLM will accept written and oral comments at the June 10 meeting. The Council Chair will determine the time allotment for each speaker, based on the number of people who register to comment. Written comments also may be submitted to Mark Conley, BLM OHV Coordinator, Bureau of Land Management, 2800 Cottage Way, Room W-1834, Sacramento, CA 95825.

All Desert District Advisory Council meetings are open to the public. Time for public comment may be made available by the Council Chairman during the presentation of various agenda items, and is scheduled at the beginning of the meeting for topics not on the agenda.

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

FOR FURTHER INFORMATION CONTACT: Doran Sanchez at (909) 697-5220, BLM California Desert District External Affairs.

Dated: May 15, 2000.
Tim Salt,
District Manager.

[FR Doc. 00-12610 Filed 5-18-00; 8:45 am]

BILLING CODE 4310-40-U